DEPARTMENT OF DEFENSE

GENERAL SERVICES ADMINISTRATION

NATIONAL AERONAUTICS AND SPACE ADMINISTRATION

[OMB Control No. 9000-0024; Docket 2014-0055; Sequence 15]

Submission for OMB Review; Federal Acquisition Regulation; Buy American Act and Trade Agreements Certificates

AGENCIES: Department of Defense (DOD), General Services Administration (GSA), and National Aeronautics and Space Administration (NASA).

ACTION: Notice of request for public comments regarding a revision to an existing OMB clearance.

SUMMARY: Under the provisions of the Paperwork Reduction Act (44 U.S.C. chapter 35), the Regulatory Secretariat Division (MVCB) will be submitting to the Office of Management and Budget (OMB) a request for extension and revision of the expiration dates of the following four information collection requirements: 9000-0024, 9000-0025, 9000-0141 and 9000-0130. This request also merges the four previously approved information collections into one (OMB Control No. 9000-0024). A notice was published in the Federal Register at 79 FR 32957 on June 9, 2014. No comments were received.

DATES: Submit comments on or before September 26, 2014.

ADDRESSES: Submit comments identified by Information Collection 9000-0024, Buy American Act and Trade Agreements Certificates, by any of the following methods:

• Regulations.gov: http://www.regulations.gov.

Submit comments via the Federal eRulemaking portal by searching the OMB control number 9000-0024. Select the link “Comment Now” that corresponds with “Information Collection 9000-0024, Buy American Act and Trade Agreements Certificates. Follow the instructions provided on the screen. Please include your name, company name (if any), and “Information Collection 9000-0024, Buy American Act and Trade Agreements Certificates” on your attached document.

• Fax: 202-501-4067.

• Mail: General Services Administration, Regulatory Secretariat Division (MVCB), 1800 F Street NW., Washington, DC 20405. ATTN: Ms. Flowers/IC 9000-0024, Buy American Act and Trade Agreements Certificates.

Instructions: Please submit comments only and cite Information Collection 9000-0024, Buy American Act and Trade Agreements Certificates, in all correspondence related to this collection. All comments received will be posted without change to http://www.regulations.gov, including any personal and/or business confidential information provided.

FOR FURTHER INFORMATION CONTACT: Ms. Cecelia L. Davis, Procurement Analyst, Acquisition Policy Division, GSA 202-219-0202 or email cecelia.davis@gsa.gov.

SUPPLEMENTARY INFORMATION:

A. This information collection requirement pertains to information that an offeror must submit in response to the requirements of the provisions and clauses in FAR 52.225-2 that relate to the following:

* The Buy American statute (41 U.S.C. chapter 83 and E.O. 10582).

* The Trade Agreements Act (19 U.S.C. 2501-2515), including the World Trade Organization Government Procurement Agreement and various free trade agreements.

* The American Recovery and Reinvestment Act of 2009 (Pub. L. 111-5) (Recovery Act).

a. 52.225-2, Buy American Certificate ((formerly OMB Control No. 9000-0024), as prescribed in FAR 25.1101(2), requires the offeror to identify in its proposal supplies that do not meet the definition of domestic end product. The Buy American Act no longer applies to acquisitions of commercial information technology.

b. 52.225-4, Buy American—Free Trade Agreements—Israeli Trade Act Certificate (formerly OMB Control No. 9000-0130), as prescribed in FAR 25.1101(b)(2)(i), requires separate listing of foreign products that are eligible under a trade agreement, and listing of all other foreign end products.

c. 52.225-6, Trade Agreements Certificate (formerly OMB Control No. 9000-0025), as prescribed in FAR 25.1101(c)(2), requires the offeror to certify that all end products are either U.S.-made or designated country end products, except as listed in paragraph (b) of the provision. Offerors are not allowed to provide other than a U.S.-made or designated country end product, unless the requirement is waived.

d. Construction provisions and clauses (formerly OMB Control No. 9000-0141):

• 52.225-9, Buy American Act Construction Materials

• 52.225-10, Notice of Buy American Act Requirement—Construction Materials

• 52.225-11, Buy American Act Construction Materials—Trade Agreements

• 52.225-12, Notice of Buy American Act Requirement—Construction Materials under Trade Agreements

• 52.225-21, Required Use of American Iron, Steel and Manufactured Goods—Buy American Act—Construction Materials

• 52.225-23, Required Use of American Iron, Steel and Manufactured Goods—Buy American Act—Construction Materials Under Trade Agreements

The listed provisions and clauses, as prescribed in FAR 25.1102(a) through (e), provide that an offeror/contractor requesting to use foreign construction material due to unreasonable cost of domestic construction material shall provide adequate information to permit evaluation of the request.

B. Annual Reporting Burden

Supplies:

FAR Clause 52.225-2, Buy American Certificate (formerly OMB Control No. 9000-0024), requires the offeror to identify in its proposal supplies that do not meet the definition of domestic end product. The Buy American Act no longer applies to acquisitions of commercial information technology.

Respondents: 3,480.

Responses per Respondent: 10.

Total Responses: 34,800.

Hours per Response: .25.

Total Burden Hours: 8,700.

FAR Clause 52.225-4, Buy American—Free Trade Agreements—Israeli Trade Act Certificate (formerly OMB Control No. 9000-0130), requires separate listing of foreign products that are eligible under a trade agreement, and listing of all other foreign end products.

Respondents: 2,550.

Responses per Respondent: 10.

Total Responses: 25,550.

Hours per Response: .25.

Total Burden Hours: 6,375.

FAR Clause 52.225-6, Trade Agreements Certificate (formerly OMB Control No. 9000-0025), requires the offeror to certify that all end products are either U.S.-made or designated country end products, except as listed in paragraph (b) of the provision. Offerors are not allowed to provide other than a U.S.-made or designated country end product, unless the requirement is waived.

Respondents: 320.

Responses per Respondent: 3.

Total Responses: 960.

Hours per Response: .25.

Total Burden Hours: 240.

Construction provisions and clauses (formerly OMB Control No. 9000-0141) provide that an offeror/contractor requesting to use foreign construction material due to unreasonable cost of domestic construction material shall provide adequate information to permit evaluation of the request.

—52.225-9, Buy American Act Construction Materials

—52.225-10, Notice of Buy American Act Requirements—Construction Materials

—52.225-11, Buy American Act Construction Materials—Trade Agreements

—52.225-12, Notice of Buy American Act requirements—Construction Materials under Trade Agreements

—52.225-21, Required Use of American Iron, Steel and Manufactured Goods—Buy American Act—Construction Materials

—52.225-23, Required Use of American Iron, Steel and Manufactured Goods—Buy American Act—Construction Materials

Under Trade Agreements

Respondents: 1,000.

Responses per Respondent: 2.

Total Responses: 2,000.

Hours per Response: 2.5.

Total Burden Hours: 5,000.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies Of Proposals: Requesters may obtain a copy of the information collection documents from the General Services Administration, Regulatory Secretariat Division (MVCB), 1800 F Street NW., Washington, DC 20405, telephone 202-501-4755. Please cite OMB Control No. 9000-0024, Buy American Act Certificate, in all correspondence.

Dated: August 22, 2014.
Edward Loeb,
Acting Director, Federal Acquisition Policy Division, Office of Government-Wide Acquisition Policy, Office of Acquisition Policy, Office of Government-Wide Policy.

[FR Doc. 2014-20364 Filed 8-26-14; 8:45 am]

BILLING CODE 6820-EP-P